DEPARTMENT OF COMMERCE

National Oceanic and Atmospheric Administration

[I.D. 021003C]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Groundfish and Habitat Oversight Committee in March, 2003 to consider actions affecting New England fisheries in the exclusive economic zone (EEZ). Recommendations from these groups will be brought to the full Council for formal consideration and action, if appropriate.

DATES: These meetings will be held March 3 and 4, 2003. See SUPPLEMENTARY INFORMATION for specific dates and times.

ADDRESSES: The meetings will be held in Providence, RI. See SUPPLEMENTARY INFORMATION for specific locations.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Monday, March 3, 2003 at 9:30 a.m. Groundfish Oversight Committee Meeting.

Location: Providence Biltmore, 11 Dorrance Street, Providence, MA 02903; telephone: (401) 421-0700.

The Groundfish Oversight Committee will continue development of Amendment 13 to the Northeast Multispecies Fishery Management Plan (FMP). The committee anticipates receiving a preliminary summary of the recent Peer Review Workshop at this meeting. This summary may include recommendations from the reviewers on the science underlying the development of Amendment 13. Based in large measure on those recommendations, the committee will consider adjustments to proposed status determination criteria, rebuilding trajectories and timelines as well as changes to the management measures in the Amendment. Changes to the measures could include revisions in the use of days-at-sea, gear, closed areas, or any other measure identified by the committee. The committee's recommendations will be presented to the Council at its meeting March 4-6, 2003. Given time, the committee will address other business.

Tuesday, March 4, 2003 at 8:30 a.m. Habitat Oversight Committee Meeting.

Location: Providence Biltmore, 11 Dorrance Street, Providence, MA 02903; telephone: (401) 421-0700.

The Habitat Oversight Committee will review the advice from the joint advisory panel representative's meeting on habitat that occurred February 6-7, 2003. They will also review the draft Essential Fish Habitat (EFH), Draft Supplementary Environmental Impact Statement (DSEIS) for Amendment 13 to the Multispecies FMP. The EFH components of Amendment 13 have been pulled out and will be submitted as a separate DSEIS. This document will be presented to the Council at its March 4-6, 2003 Council Meeting, then the EFH DSEIS will be incorporated back into the final Amendment 13 DSEIS, which will be presented to the Council at the July Council meeting. The committee will review the EFH DSEIS for Amendment 13 and identify a preferred alternative if appropriate.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: February 11, 2003.
Theophilus R. Brainerd,
Acting Director Office of Sustainable Fisheries, National Marine Fisheries Service.

[FR Doc. 03-3759 Filed 2-13-03; 8:45 am]

BILLING CODE 3510-22-S